DEPARTMENT OF DEFENSE

Office of the Secretary

[Docket ID: DoD-2024-OS-0100]

Proposed Collection; Comment Request

AGENCY: Office of the Under Secretary of Defense for Personnel and Readiness (OUSD (P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 19, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to MC&FP-OMFRP-Office of Special Needs, Mark Center, 4800 Mark Center Drive, Alexandria, VA 22350-2300, Room: 03G15, Michael Flaherty, 202-658-9613.

SUPPLEMENTARY INFORMATION:

Title; Associated Form; and OMB Number: Exceptional Family Member Program (EFMP) Family Needs Assessment (FNA); DD Form 3054; OMB Control Number 0704-0580.

Needs and Uses: This information collection through the Family Needs Assessment (FNA) is necessary to assist EFMP Family Support staff in identifying the needs of families and developing plans of action. The Family Services Plan Addendum allows EFMP Family Support staff and families to track identified steps in addressing their needs and goals. The Inter-Services Transfer Summary (ISTS) Addendum facilitates the transfer of cases between sister-Service Family Support Offices when a family requests a warm hand-off to a gaining installation.

The EFMP FNA addresses current differences in assessment processes and inconsistent transfer of cases across the Services. With this standardized form, installation-level EFMP Family Support Offices can provide a family support experience that is consistent across the Services and maintains continuity of services when military families with special needs have Permanent Change of Station (PCS) orders to a joint base or sister-Service location.

Affected Public: Individuals or households.

Annual Burden Hours: 10,000.

Number of Respondents: 20,000.

Responses per Respondent: 1.

Annual Responses: 20,000.

Average Burden per Response: 30 minutes.

Frequency: As needed.

This form is used by EFMP Family Support staff in collaboration with families who request assistance in navigating resources and systems of support. The DD Form 3054 will be standardized across the four Services with the goal of facilitating a consistent Family Support experience for all military families.

Form respondents include EFMP Family Support staff who complete the form in conjunction with families who are needing support services. The FNA will be stored and maintained internally at the Family Support Office. A family may request a copy of the Form.

Dated: September 17, 2024.
Aaron T. Siegel,
Alternate OSD Federal Register Liaison Officer, Department of Defense.

[FR Doc. 2024-21603 Filed 9-19-24; 8:45 am]

BILLING CODE 6001-FR-P